DEPARTMENT OF LABOR

Office of the Secretary

Submission for OMB review; comment request

April 26, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ({202} 219-5096 ext. 159 or by E-mail to Kurz-Karin@dol.gov). To obtain documentation for ESA, MSHA, OSHA, and VETS contact Darin King ({202} 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ({202} 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Pension and Welfare Benefits Administration.

Title: Prohibited Transaction Class Exemption 94-20, Purchases and Sales of Foreign Currencies.

OMB Number: 1210-0085.

Recordkeeping: Six years.

Affected Public: Individuals or households; business or other for-profit; not-for-profit institutions.

Frequency: On occasion.

Number of Respondents: 35.

Total Annual Responses: 175.

Estimated Time Per respondent: 5 Minutes.

Total Annual Burden: 15 Hours.

Total annualized capital/startup costs: $0.

Total annual costs (operating/maintaining systems or purchasing services): $0.

Description: Prohibited Transaction Class Exemption 94-20 permits the purchase and sale of foreign currencies between an employee benefit plan and a bank or a broker-dealer or an affiliate thereof that is a party in interest with respect to such plan. In the absence of this exemption, certain aspects of these transactions could be prohibited by section 406(a) of the Employee Retirement Income Security Act of 1974. This ICR covers the recordkeeping requirements for a bank, broker-dealer, or affiliate thereof.

Type of Review: Extension of a currently approved collection.

Agency: Pension and Welfare Benefits Administration.

Title: Prohibited Transaction Exemption 90-1—Pooled Separate Accounts.

OMB Number: 1210-0083.

Recordkeeping: Six years.

Affected Public: Individuals or households; business or other for-profit; not-for-profit institutions.

Frequency: On occasion.

Number of Respondents: 128.

Total Annual Responses: 128.

Estimated Time Per respondent: 5 Minutes.

Total Annual Burden: 11 Hours.

Total annualized capital/startup costs: $0.

Total annual costs (operating/maintaining systems or purchasing services): $0.

Description: Prohibited Transaction Class Exemption 90-1 provides an exemption from certain provisions of the Employee Retirement Income Security Act of 1974 (ERISA) for certain transactions involving insurance company pooled separate accounts in which employee benefit plans participate and which are otherwise prohibited by ERISA. Specifically, the exemption allows persons who are parties in interest of a plan that invests in a pooled separate account to engage in transactions with the separate account if the plan's participation in the separate account does not exceed specified limits. For example, the general exemption allows a service provider, which also is a party in interest to an employee benefit plan, and an insurance company pooled separate account in which the plan has an interest, to engage in transactions if the plan's participation in the separate account does not exceed specified limits. This ICR covers the recordkeeping requirements for insurance companies.

Type of Review: Extension of a currently approved collection.

Agency: Pension and Welfare Benefits Administration.

Title: Definition of Plan Assets—Participant Contributions.

OMB Number: 1210-0100.

Affected Public: Individuals or households; business or other for-profit; not-for-profit institutions

Frequency: On occasion.

Number of Respondents: 1.

Total Annual Responses: 1.

Estimated Time Per respondent: 3 Hours.

Total Annual Burden: 3 Hours.

Total annualized capital/startup costs: $0.

Total annual costs (operating/maintaining systems or purchasing services): $0

Description: Generally, the regulation provides guidance for fiduciaries, participants, and beneficiaries of employee benefit plans on the requirements for transmission of employee contributions withheld from wages. Specifically, this regulation describes when certain monies, which a participant pays to or has withheld by an employer for contribution to an employee benefit plan, are “plan assets” for purposes of title I of the Employee Retirement Income Security Act of 1974 (ERISA) and the related prohibited transaction provisions of the Internal Revenue Code. The Regulation also establishes a procedure (for pension plans only) whereby an employer may obtain an additional 10 business days to comply with the contribution time limits. This ICR covers the notification, bonding, and certification requirements for obtaining an extension.

Type of Review: Revision of a currently approved collection.

Agency: Pension and Welfare Benefits Administration.

Title: Prohibited Transaction Class Exemption 76-1 and Prohibited Transaction Class Exemption 77-10.

OMB Number: 1210-0058.

Recordkeeping: Six years.

Affected Public: Individuals or households; business or other for-profit; not-for-profit institutions.

Frequency: On occasion.

Number of Respondents: 3,187.

Total Annual Responses: 3,187.

Total Annual Burden: 797 Hours.

Total annualized capital/startup costs: $0.

Total annual costs (operating/maintaining systems or purchasing services): $0.

Description: Prohibited Transaction Class Exemption (PTCE) 76-1 provides an exemption, under specified conditions, from certain of ERISA's prohibited transaction provisions under section 406(a) for various transactions involving multi-employer or multiple employer plans. Prohibited Transaction Class Exemption (PTCE) 77-10 complements Part C of PTCE 76-1 in that it provides an exemption under certain conditions from section 406(b)(2) of ERISA in connection with such transactions. PTCE 76-1, Part C permits plans to lease office space and provide administrative services or sell goods to a participating employer or union or to another plan. Section 406(b)(2) prohibits plan fiduciaries, such as plan trustees, from acting in an individual or any other capacity in a transaction involving the plan on behalf of a party whose interests are adverse to those of the plan or its participants or beneficiaries.

The Department has proposed combining the information collection provisions of both exemptions under one OMB control number (OMB Number 1210-0058) by incorporating the information collection provisions of PTCE 77-10 (OMB Number 1210-0081) into the revision information collection under OMB Number 1210-0058 and allowing the control number for PTCE 77-10 to expire. The Department believes the public will benefit by having the opportunity to comment on both information collection provisions at the same time because PTCE 77-10 is not likely to be used without its counterpart, PTCE 76-1.

Type of Review: Extension of a currently approved collection.

Agency: Occupational Safety and Health Administration (OSHA).

Title: 1,2-dibromo-3-chloropropane (DBCP) Standard.

OMB Number: 1281-0101.

Frequency: On occasion.

Affected Public: Business or other for-profit; Federal Government; State, Local or Tribal Government.

Number of Respondents: 0.

Total Annual Burden: 1 Hour.

Total annualized capital/startup costs: $0.

Total annual costs (operating/maintaining systems or purchasing services): $0.

Description: The information collection requirements in the DBCP Standard provide protection for employees from the adverse health effects associated with exposure to DBCP. In this regard, the DBCP Standard requires employers to monitor employees' exposure to DBCP, monitor employee health, and provide employees with information about their exposures and the health effects of exposure to DBCP.

Agency: Mine Safety and Health Administration (MSHA).

Title: Main Fan Maintenance Record.

Type of Review: Extension.

OMB Number: 1219-0012.

Frequency: On occasion.

Affected Public: Business or other for-profit.

Number of Respondents: 21.

Total Annual Responses: 7.

Estimated Time Per Respondent: 1.57 Hours.

Total Annual Burden: 11 Hours.

Total Annualized capital/startup costs: $0.

Total annual costs (operating/maintaining systems or purchasing services): $0.

Description: Mine Operators are required to keep main fans maintained according to either manufacturers, recommendations or a written periodic schedule adopted by the mine operator. The main fans are the major life support system to the entire underground mining operation. The air flow provided by the fans assures fresh air to the miners at working faces, reduces the chance of the air reaching threshold limit values of airborne contaminants, and dilutes accumulations of possible explosive gases.

Ira L. Mills,
Departmental Clearance Officer.

[FR Doc. 00-10899 Filed 5-1-00; 8:45 am]

BILLING CODE 4510-23-M